DEPARTMENT OF ENERGY

Federal Energy Regulatory Commission

[Project No. 5596-020]

Town of Bedford, Virginia; Notice of Revised Procedural Schedule for Environmental Assessment for the Proposed Project Relicense

On April 30, 2021, the Town of Bedford, Virginia filed an application for a new major license for the 5.0-megawatt Bedford Hydroelectric Project No. 5596 (Bedford Project or project). On August 17, 2023, Commission staff issued a notice of intent to prepare an Environmental Assessment (EA) to evaluate the effects of relicensing the Bedford Project. The notice of intent included a schedule for preparing a single EA.

By this notice, Commission staff is updating the procedural schedule for completing the EA. The revised schedule is shown below. Further revisions to the schedule may be made as appropriate.

¹ The Council on Environmental Quality's (CEQ) regulations under 40 CFR 1501.10(b)(1) (2022) require that EAs be completed within 1 year of the federal action agency's decision to prepare an EA. See National Environmental Policy Act, 42 U.S.C. 4321 et seq., as amended by section 107(g)(1)(B)(iii) of the Fiscal Responsibility Act of 2023, Public Law 118-5, 4336a, 137 Stat. 42.

Milestone | Target date
Issue EA | July 2024.¹

Any questions regarding this notice may be directed to Andy Bernick at (202) 502-8660 or andrew.bernick@ferc.gov.

Dated: April 11, 2024.
Debbie-Anne A. Reese,
Acting Secretary.

[FR Doc. 2024-08200 Filed 4-16-24; 8:45 am]

BILLING CODE 6717-01-P